DEPARTMENT OF DEFENSE

Office of the Secretary

[Transmittal No. 22-68]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-68, Policy Justification, and Sensitivity of Technology.

Dated: November 6, 2024.
Stephanie J. Bost,
Alternate OSD Federal Register Liaison Officer, Department of Defense.

BILLING CODE 6001-FR-P

BILLING CODE 6001-FR-C

Transmittal No. 22-68

Notice of Proposed Issuance of Letter of Offer Pursuant to Section 36(b)(1) of the Arms Export Control Act, as amended

(i) Prospective Purchaser: Government of the United Kingdom

(ii) Total Estimated Value:

Major Defense Equipment * | $950.2 million
Other | $ 7.2 million
Total | $957.4 million

(iii) Description and Quantity or Quantities of Articles or Services under Consideration for Purchase:

Major Defense Equipment (MDE):

Three thousand (3,000) Joint Air-to-Ground Missiles (JAGM), AGM-179A

Non-MDE:

Also included are dummy missiles; technical assistance; publications; integration support; and other related elements of logistics and program support.

(iv) Military Department: Army (UK-B-WVD)

(v) Prior Related Cases, if any: UK-B-WSO, UK-B-WTX

(vi) Sales Commission, Fee, etc., Paid, Offered, or Agreed to be Paid: None known at this time

(vii) Sensitivity of Technology Contained in the Defense Article or Defense Services Proposed to be Sold: See Attached Annex

(viii) Date Report Delivered to Congress: October 23, 2023

* As defined in Section 47(6) of the Arms Export Control Act.

POLICY JUSTIFICATION

United Kingdom—Joint Air-to-Ground Missiles (JAGM)

The Government of the United Kingdom has requested to buy three thousand (3,000) JAGM, AGM-179A. Also included are dummy missiles; technical assistance; publications; integration support; and other related elements of logistics and program support. The total estimated program cost is $957.4 million.

This proposed sale will support the foreign policy goals and national security objectives of the United States (U.S.) by improving the security of a NATO Ally that is a force for political stability and economic progress in Europe.

The proposed sale will improve the United Kingdom's capability to meet current and future threats. The United Kingdom will use the enhanced capability to strengthen its homeland defense and deter regional threats. The United Kingdom will have no difficulty absorbing this equipment and services into its armed forces.

The proposed sale of this equipment and support will not alter the basic military balance in the region.

The principal contractor will be the Lockheed Martin Corporation, Orlando, FL. There are no known offset agreements proposed in connection with this potential sale.

Implementation of this proposed sale will not require the assignment of any U.S. Government or contractor representatives to the United Kingdom.

There will be no adverse impact on U.S. defense readiness as a result of this proposed sale.

Transmittal No. 22-68

Notice of Proposed Issuance of Letter of Offer Pursuant to Section 36(b)(1) of the Arms Export Control Act

Annex

Item No. vii

(vii) Sensitivity of Technology:

1. The JAGM all up round (AUR), designated AGM-179A, is an Air-to-Ground Missile (AGM) consisting of a HELLFIRE Romeo (AGM-114R) back-end (i.e., propulsion, warhead, and control sections) mated to a newly designed dual-mode Guidance Section (GS). The dual-mode GS is a combination of Millimeter Wave (MMW) and Semi-Active Laser (SAL) sensors co-axially aligned on a steerable gimbal. The combination of MMW and SAL sensors provide improved Precision Point and Fire-and-Forget capabilities onto a single munition. This combination allows targeting capability against fast moving and stationary targets in countermeasure and/or a battlefield intensive environment, and in low cloud ceiling and adverse weather.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the United Kingdom can provide substantially the same degree of protection for the sensitive technology being released as the U.S. Government. This sale is necessary in furtherance of the U.S. foreign policy and national security objectives outlined in the Policy Justification.

5. All defense articles and services listed in this transmittal have been authorized for release and export to the Government of the United Kingdom.

[FR Doc. 2024-26154 Filed 11-8-24; 8:45 am]

BILLING CODE 6001-FR-P